GENERAL SERVICES ADMINISTRATION

[OMB Control No. 3090-0284; Submission for OMB Review]

Agency Information Collection Activities; Proposed Collection; Comment Request; Data.gov Feedback Mechanisms Information Collection

AGENCY: General Services Administration (GSA).

ACTION: Notice of a request for comments regarding a new information collection.

SUMMARY: In compliance with the Paperwork Reduction Act (PRA) (44 U.S.C. Chapter 35), this document announces that GSA is planning to submit a request to replace an emergency Information Collection Request (ICR) to the Office of Management and Budget (OMB). Before submitting this ICR to OMB for review and approval, GSA is soliciting comments on specific aspects of the proposed information collection as described below.

DATES: Comments must be submitted on or before November 12, 2009.

ADDRESSES: Submit your comments regarding this collection of information to: datagov@gsa.gov or to Marion Royal at the information provided below. Submit comments regarding this burden estimate or any other aspect of this collection of information, including suggestions for reducing this burden to the GSA Desk Officer, OMB, Room 10236, NEOB, Washington, DC 20503, and a copy to the Regulatory Secretariat (VPR), U.S. General Services Administration, 1800 F Street, NW., Room 4041, Washington, DC 20405. Please cite Data.gov Information Collection OMB Control No. 3090-0284 in all correspondence.

FOR FURTHER INFORMATION CONTACT: Marion Royal, General Services Administration, Office of Governmentwide Policy, 1800 F Street NW., Room 2018, Washington, DC 20405-0001; telephone number: 202-208-4643; fax number: 202-501-6455; e-mail address: datagov@gsa.gov.

SUPPLEMENTARY INFORMATION:

What Information is GSA Particularly Interested in?

Pursuant to section 3506(c)(2)(A) of the PRA, GSA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, GSA is requesting comments from very small businesses (those that employ less than 25) on examples of specific additional efforts that GSA could make to reduce the paperwork burden for very small businesses affected by this collection.

What Should I Consider When I Prepare My Comments for GSA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by GSA, be sure to identify the ICR title on the first page of your response. You may also provide the Federal Register citation.

What Information Collection Activity or ICR Does This Apply to?

Title: Data.gov Information Collection.

OMB Control Number: 3090-0284.

Abstract: Data.gov is inspired by the President's program for “Open Government” and “Transparency”. In response to the President's direction to improve the transparency of government, the Federal Chief Information Officer (CIO) Council has created a Web site/portal that improves public access to a wide variety of U.S. Government data. Data.gov is a public-friendly Web site that provides descriptions of the federal datasets, information on how to access the datasets, points of contact information, metadata information, and links to publicly accessible applications that leverage the datasets. This information collection request for a generic clearance is a replacement of the emergency ICR approved by OMB. It is being submitted in order to fulfill the public feedback aspects of this important initiative. Data.gov visitors will be provided opportunities to provide feedback and ratings in the spirit of the President's open government and transparency initiative. Examples of feedback mechanisms are:

(1) A five-star rating and text “Comment on this Data” field to give visitors information about which datasets other visitors found most useful and interesting on the Data.gov webpage,

(2) A “Suggest Other Datasets” entry page for the public to submit ideas for datasets with an optional contact e-mail address provided for those visitors wishing to identify themselves,

(3) A field for visitors to rank datasets suggested by other visitors at an estimated annual burden of 17 hours,

(4) A “Contact Us” entry page with an optional contact e-mail address for those visitors wishing to identify themselves,

(5) A Collaborative Work Environment using wiki web pages and e-mail discussion forum,

(6) Pages for visitors to advise how they leverage the datasets in new and different ways to build applications, conduct analysis, and perform research,

(7) Pages for visitors to rate the benefit of the reported new solutions, etc.

Burden Statement: The annual public reporting and recordkeeping burden for this collection of information is estimated to average up to 400 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The estimated annual burden request is summarized here:

Affected entities: Visitors to Data.gov.

Estimated total number of potential respondents: 16,200.

Estimated total number of potential responses: 16,200.

Frequency of response: Occasionally.

Estimated total annual burden hours: 400 hours.

Estimated total annual costs: No cost to the public; no additional government resources.

What Is the Next Step in the Process for This ICR?

GSA did not receive comments to its first Federal Register notice 74 FR 29211-29212, June 19, 2009. The final ICR package is being submitted to OMB for review and approval pursuant to 5 CFR 1320.5(a)(1)(iv). The purpose of this Federal Register notice is to announce the submission of the ICR to OMB and to provide the opportunity to submit additional comments to OMB. If you have any questions about this ICR or the approval process, please contact the person listed under FOR FURTHER INFORMATION CONTACT.

Obtaining Copies of Proposals: Requesters may obtain a copy of the information collection documents from the General Services Administration, Regulatory Secretariat (VPR), 1800 F Street, NW., Room 4041, Washington, DC 20405, telephone (202) 501-4755. Please cite Data.gov, in all correspondence.

Dated: October 5, 2009.
Casey Colemen,
Chief Information Officer.

[FR Doc. E9-24628 Filed 10-9-09; 8:45 am]

BILLING CODE 6820-WY-P